DEPARTMENT OF THE INTERIOR

National Park Service

[NPS-PWR-KAHO-15968; PPPWKAHOS0, PPMPSPD1Z.S00000]

Notice of Request for Nominations for the Na Hoa Pili O Kaloko-Honokohau National Historical Park Advisory Commission

AGENCY: National Park Service, Interior.

ACTION: Notice of Request for Nominations.

SUMMARY: The National Park Service, U.S. Department of the Interior, proposes to appoint new members to the Na Hoa Pili O Kaloko-Honokohau (The Friends of Kaloko-Honokohau), an advisory commission for the park. The Superintendent, Kaloko-Honokohau National Historical Park, acting as administrative lead, is requesting nominations for qualified persons to serve as members of the Commission.

DATES: Nominations must be postmarked by October 14, 2014.

ADDRESSES: Nominations should be sent to Tammy Duchesne, Superintendent, Kaloko-Honokohau National Historical Park, 73-4786 Kanalani Street, Suite #14, Kailua-Kona, HI 96740.

FOR FURTHER INFORMATION CONTACT: Jeff Zimpfer, National Park Service, Environmental Protection Specialist, Kaloko-Honokohau National Historical Park, 73-4786 Kanalani St., #14, Kailua Kona, HI 96740, telephone number (808) 329-6881, ext. 1500, or email jeff_zimpfer@nps.gov.

SUPPLEMENTARY INFORMATION: The Kaloko-Honokohau National Historical Park was established by Section 505(a) of Public Law 95-625, November 10, 1978, as amended. Section 505(f) of that law, as amended, established the Na Hoa Pili O Koloko-Honokohau (The Friends of Kaloko-Honokohau), as an advisory commission for the Park. The Commission was re-established by Title VII, Subtitle E, Section 7401 of Public Law 111-11, the Omnibus Public Land Management Act of 2009, March 30, 2009. The Commission's current termination date is December 18, 2018.

The purpose of the Commission is to advise the Director of the National Park Service with respect to the historical, archeological, cultural, and interpretive programs of the Park. The Commission is to afford particular emphasis to the quality of traditional native Hawaiian cultural practices demonstrated in the Park.

The Commission consists of nine members, each appointed by the Secretary of the Interior, and four ex officio non-voting members, as follows: all nine Secretarial appointees will be residents of the State of Hawaii, and at least six of those appointees will be native Hawaiians; native Hawaiian organizations will be invited to nominate members, and at least five members will be appointed from those nominations to represent the interests of those organizations. The other four members will represent native Hawaiian interests. The four ex officio members include the Park Superintendent, the Pacific West Regional Pacific Islands Director, one person appointed by the Governor of Hawaii, and one person appointed by the Mayor of the County of Hawaii.

The nine voting members will be appointed for 5-year terms. No member may serve more than one term consecutively. Any vacancy in the Commission shall be filled by appointment for the remainder of the term. The Secretary of the Interior shall designate one member of the Commission to be Chairman.

Members of the Commission will receive no pay, allowances, or benefits by reason of their service on the Commission. However, while away from their homes or regular places of business in the performance of services for the Commission as approved by the Designated Federal Officer, members will be allowed travel expenses, including per diem in lieu of subsistence, in the same manner as persons employed intermittently in Government service are allowed such expenses under Section 5703 of Title 5 of the United States Code.

Individuals who are currently Federally registered lobbyists are ineligible to serve on all FACA and non-FACA boards, committees, or councils.

Seeking Nominations For Membership

We are seeking nominations for individuals to be considered as commission members to represent the following category: native Hawaiians interests. For the purposes of section 505(e) of Public Law 95-625, native Hawaiians are defined as any lineal descendants of the race inhabiting the Hawaiian Islands prior to the year 1778. Nominations should include a resume providing an adequate description of the nominee's qualifications, including information that would enable the Department of the Interior to make an informed decision regarding meeting the membership requirements of the Commission and permit the Department of the Interior to contact a potential member.

Nominations should be postmarked no later than October 14, 2014, to Tammy Duchesne, Superintendent, Kaloko-Honokohau National Historical Park, 73-4786 Kanalani Street, Suite #14, Kailua-Kona, HI 96740.

Dated: August 4, 2014.
Alma Ripps,
Chief, Office of Policy.

[FR Doc. 2014-19229 Filed 8-13-14; 8:45 am]

BILLING CODE 4310-EE-P